DEPARTMENT OF THE INTERIOR

Bureau of Land Management

[CACA 49834; L51010000.ER0000 LLCAD09000 LVRWB09B3160]

Notice of Availability of the Draft Environmental Impact Report and Draft Environmental Impact Statement for the Southern California Edison Eldorado-Ivanpah Transmission Project, California and Nevada

AGENCY: Bureau of Land Management, Interior.

ACTION: Notice of availability.

SUMMARY: In accordance with the National Environmental Policy Act of 1969, as amended, and the California Environmental Quality Act of 1970, the Department of the Interior, Bureau of Land Management (BLM), together with the California Public Utilities Commission, has prepared a Draft Environmental Impact Report (EIR)/Environmental Impact Statement (EIS) for the proposed Eldorado-Ivanpah Transmission Project (EITP), and by this notice is announcing the opening of the comment period.

DATES: To ensure that comments will be considered, the BLM must receive written comments on the EITP Draft EIR/EIS within 45 days following the date the Environmental Protection Agency publishes its Notice of Availability in the Federal Register. The BLM will announce future meetings or hearings and any other public involvement activities at least 15 days in advance through public notices, media releases, or mailings.

ADDRESSES: You may submit comments related to the proposed EITP Draft EIR/EIS by any of the following methods:

• Web site: http://www.blm.gov/ca/st/en/fo/needles.html;

• E-mail: caeitp@blm.gov, subject line EITP;

• Fax: (760) 326-7099; or

• Mail or other delivery service: George R. Meckfessel, Needles Field Office, 1303 South U.S. Highway 95, Needles, California 92363-4228.

Copies of the EITP Draft EIR/EIS are available in the Needles Field Office at the above address, or at the following Web site: http://www.blm.gov/ca/st/en/fo/needles.html, and at the BLM California State Office, 2800 Cottage Way, Sacramento, California 95825. Electronic (CD-ROM) or paper copies may also be obtained by contacting George Meckfessel at (760) 326-7000 or by e-mailing your request to caeitp@blm.gov and including your name and mailing address.

FOR FURTHER INFORMATION CONTACT: For further information and/or to have your name added to our mailing list, contact Tom Hurshman, Project Manager, telephone (970) 240-5345; fax (970) 240-5368; address 2465 South Townsend Avenue, Montrose, Colorado 81401; e-mail Tom_Hurshman@blm.gov.

SUPPLEMENTARY INFORMATION: The BLM's purpose and need for the EITP project is to respond to Southern California Edison's (SCE) application for a right-of-way (ROW) grant to construct and operate a double circuit 230-kilovolt (kV) transmission line to replace an existing 115-kV transmission line on public lands in compliance with Title V of the Federal Lands Management and Policy Act (FLPMA) (43 U.S.C. 1761-1771), the BLM ROW regulations, and other applicable Federal laws.

The upgraded transmission line would extend approximately 35 miles from southern Clark County, Nevada (28 miles), into northeastern San Bernardino County, California (7 miles). The project would also include a new Ivanpah substation in California near Primm, Nevada, which would serve as a connector hub for solar energy that may be produced by future solar generation projects in the Ivanpah Valley area. The existing Eldorado Substation would be modified to accommodate the new Eldorado-Ivanpah transmission line. The segment of transmission line to be replaced is approximately 36 miles long and originates at the existing Eldorado Substation in T. 25 S., R. 62 E., Sec. 1, Mount Diablo Meridian, and terminates at the proposed Ivanpah Substation in T. 16 N., R. 14 E., Sec. 4, San Bernardino Meridian.

The BLM will decide whether to approve, approve with modification, or deny issuance of a ROW authorization to SCE for the proposed EITP project. The EITP would carry electricity from several renewable energy projects proposed in and around the Ivanpah Valley, including the Ivanpah Solar Energy Generation System planned by BrightSource, LLC. The proposed transmission line and new substation would be constructed within an existing designated utility corridor. Telecommunications lines are also proposed. The public lands in the project area are managed by the BLM in accordance with the California Desert Conservation Area (CDCA) Plan and the Las Vegas Field Office Resource Management Plan.

As proposed by SCE, the transmission line would be sited within an existing ROW corridor designated in the CDCA plan and Las Vegas RMP. In addition to the proposed action and the no action alternatives, the EIR/EIS analyzes seven additional action alternatives that address alternative routes for the transmission and telecommunications lines.

A Notice of Intent to prepare an EIR/EIS for the EITP project was published in the Federal Register on July 27, 2009, and was followed by a 30-day public scoping period. The BLM held an interagency meeting on July 1, 2009, to inform other agencies about the project and held formal scoping meetings for the public on July 28 and 29, 2009. Four primary areas of concern were identified during the public scoping process: (1) Impacts of the project on several biological resources, especially desert tortoise; (2) compatibility of the project with regional land uses such as the planned Southern Nevada Supplemental Airport; (3) compatibility of the project with other existing ROW designations; and (4) cumulative impacts. Before including your address, phone number, e-mail address, or other personal identifying information in your comment, you should be aware that your entire comment—including your personal identifying information—may be made publicly available at any time. While you can ask us in your comment to withhold your personal identifying information from public review, we cannot guarantee that we will be able to do so.

Authority: 40 CFR 1506.6, 1506.10, and 43 CFR 1610.2

Thomas Pogacnik,
Deputy State Director.

[FR Doc. 2010-10664 Filed 5-6-10; 8:45 am]

BILLING CODE 4310-40-P